DEPARTMENT OF HOMELAND SECURITY

Coast Guard

33 CFR Part 165

[Docket No. USCG-2012-0154]

Safety Zones; Recurring Events in Captain of the Port New York Zone

AGENCY: Coast Guard, DHS.

ACTION: Notice of enforcement of regulation.

SUMMARY: The Coast Guard will enforce various safety zones in the Sector New York area of responsibility on various dates and times. This action is necessary to ensure the safety of vessels and spectators from hazards associated with fireworks displays. During the enforcement period, no person or vessel may enter the safety zone without permission of the Captain of the Port (COTP).

DATES: The regulations for the safety zones described in 33 CFR 165.160 will be enforced on the dates and times listed in the table below.

FOR FURTHER INFORMATION CONTACT: If you have questions on this notice, call or email Ensign Kimberly Farnsworth, Coast Guard; telephone 718-354-4163, email Kimberly.A.Farnsworth@uscg.mil.

SUPPLEMENTARY INFORMATION: The Coast Guard will enforce the safety zones listed in 33 CFR 165.160 on the specified dates and times as indicated in Table 1 below. If the event is delayed by inclement weather, the regulation will be enforced on the rain date indicated in Table 1 below. These regulations were published in the Federal Register on November 9, 2011 (76 FR 69614).

Table 1
1. Allied PRA Fireworks, Liberty Island Safety Zone, 33 CFR 165.160(2.1) | • Launch site: A barge located in approximate position 40°41′16.5″ N, 074°02′23″ W (NAD 1983), located in Federal Anchorage 20-C, about 360 yards east of Liberty Island.
| • Date: April 20, 2012.
| • Time: 10 p.m.-11:15 p.m.
2. N.E.C.O., Awards Fireworks, Liberty Island Safety Zone, 33 CFR 165.160(2.1) | • Launch site: A barge located in approximate position 40°41′16.5″ N, 074°02′23″ W (NAD 1983) located in Federal Anchorage 20-C, about 360 yards east of Liberty Island.
| • Date: May 12, 2012.
| • Rain Date: May 13, 2012.
| • Time: 11 p.m.-12:10 a.m.
3. Town of North Hempstead Fireworks, Hempstead Harbor Safety Zone, 33 CFR 165.160(3.9) | • Launch site: A barge located in approximate position 40°49′50″ N, 073°39′12″ W (NAD 1983), approximately 190 yards north of Bar Beach, Hempstead Harbor, NY.
| • Date: May 26, 2012.
| • Time: 9 p.m.-10:20 p.m.
4. Girl Scouts 100th Anniversary Fireworks, South Ellis Island Safety Zone, 33 CFR 165.160(2.2) | • Launch site: A barge located in approximate position 40°41′45″ N, 074°02′09″ W (NAD 1983) about 365 yards east of Ellis Island.
| • Date: June 23, 2012.
| • Time: 9:15 p.m.-10:30 p.m.
5. City of Glen Cove Fireworks, Hempstead Harbor Safety Zone, 33 CFR 165.160(3.9) | • Launch site: A barge located in approximate position 40°49′50″ N, 073°39′12″ W (NAD 1983), approximately 190 yards north of Bar Beach, Hempstead Harbor, New York.
| • Date: July 4, 2012.
| • Rain Date: July 7, 2012.
| • Time: 8:45 p.m.-10:05 p.m.
6. Larchmont Yacht Club, Larchmont Harbor, Western Long Island Sound Safety Zone, 33 CFR 165.160(3.3) | • Launch site: A barge located in approximate position 40°54′45″ N, 073°44′55″ W (NAD 1983), approximately 450 yards southwest of the entrance to Horseshoe Harbor.
| • Date: July 4, 2012.
| • Rain Date: July 5, 2012.
| • Time: 9 p.m.-10:20 p.m.
7. City of Poughkeepsie, Hudson River Safety Zone, 33 CFR 165.160(5.13) | • Launch site: A barge located in approximate position 41°42′24.5″ N, 073°56′44.1″ W (NAD 1983) about 420 yards north of Mid-Hudson Bridge.
| • Date: July 4, 2012.
| • Rain Date: July 5, 2012.
| • Time: 8:30 p.m.-10 p.m.
8. Breezy Point Cooperative Fireworks, Rockaway Inlet Safety Zone, 33 CFR 165.160(2.8) | • Launch site: A barge located in approximate position 40°34′28.2″ N, 073°50′00″ W (NAD 1983), 350 yards off of Beach 116th Street.
| • Date: July 6, 2012.
| • Rain Date: July 7, 2012.
| • Time: 9 p.m.-10:22 p.m.

Under the provisions of 33 CFR 165.160, a vessel may not enter the regulated area unless given express permission from the COTP or the designated representative. Spectator vessels may transit outside the regulated area but may not anchor, block, loiter in, or impede the transit of other vessels. The Coast Guard may be assisted by other Federal, State, or local law enforcement agencies in enforcing this regulation.

This notice is issued under authority of 33 CFR 165.160(a) and 5 U.S.C. 552 (a). In addition to this notice in the Federal Register, the Coast Guard will provide mariners with advanced notification of enforcement periods via the Local Notice to Mariners and marine information broadcasts. If the COTP determines that the regulated area need not be enforced for the full duration stated in this notice, a Broadcast Notice to Mariners may be used to grant general permission to enter the regulated area.

Dated: March 6, 2012.
G.P. Hitchen,
Captain, U.S. Coast Guard Acting Captain of the Port New York.

[FR Doc. 2012-6659 Filed 3-19-12; 8:45 am]

BILLING CODE 9110-04-P